DEPARTMENT OF HEALTH AND HUMAN SERVICES

Administration for Children and Families

Submission for OMB Review; Comment Request

Title: Evaluation of the Community Healthy Marriage Initiative.

OMB No.: No collection.

Description: The administration for Children and Families, United States Department of Health and Human Services, is conducting a demonstration and evaluation called Community Healthy Marriage Initiative (CHMI). Demonstration programs will be funded to support healthy marriage directly as well as encourage community changes in norms that increase support for healthy marriages and improve child and family well-being. The objective of the impact evaluation is to evaluate the community effects of these interventions on marital stability and satisfaction and child and family well-being outcomes among low-income families. Primary data for the impact evaluation will come from three waves of in-person data collection. This collection is a baseline survey of community members where CHMI demonstrations are operating, the first of three CMI surveys. The impact evaluation will assess the effects of community healthy marriage initiatives by comparing family and child well-being outcomes in the CHMI communities with similar outcomes in comparison communities that are well matched to the demonstration project sites.

Respondents: Community members aged 18-49 in three study sites and three comparison communities.

Annual Burden Estimates
Instrument | Number of respondents | Number of responses per respondent | Average burden hours per response | Total burden hours
CHMI Baseline Survey | 4,200 | 1 | 0.666666 | 2,800

Estimated Total Annual Burden Hours: 2,800

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: January 3, 2007.
Robert Sargis,
Reports Clearance Officer.

[FR Doc. 07-12 Filed 1-5-07; 8:45 am]

BILLING CODE 4184-01-M